DEPARTMENT OF EDUCATION

Proposed Waiver and Extension of Project Period

AGENCY: Office of Innovation and Improvement, Education.

ACTION: Notice of proposed waiver and extension of project period.

SUMMARY: The Secretary proposes to waive the requirements in 34 CFR 75.250 and 75.261(c)(2) of the Education Department General Administrative Regulations (EDGAR) that, respectively, generally prohibit project periods exceeding five years and project period extensions involving the obligation of additional Federal funds. The FY 2010 appropriation provided the fifth year of funding for 60 of the 62 Parental Information and Resource Center (PIRC) grants that were funded in FY 2006, and the fourth year of funding for the remaining two grants that were funded in FY 2007. The proposed waivers would enable 60 of the 62 current grantees under the PIRC program to continue to receive Federal funding beyond the five-year limitation contained in 34 CFR 75.250 and enable the Department to obligate an additional year of Federal funds for all 62 current eligible grantees notwithstanding the limitation in 34 CFR 75.261(c)(2), which prohibits the extension of a project period if it involves the obligation of additional Federal funds. This additional year of Federal funds would be contingent on final Congressional action on the FY 2011 budget.

DATES: We must receive your comments on or before February 14, 2011.

ADDRESSES: Address all comments about this proposed waiver and extension of project period to Monique Toussaint, U.S. Department of Education, 400 Maryland Avenue, SW., Room 4W243, Washington, DC 20202-5970. Telephone: (202) 260-0964.

If you prefer to send your comments by e-mail, use the following address: pirc@ed.gov. You must include the phrase “proposed waiver and extension of project period” in the subject line of your electronic message.

FOR FURTHER INFORMATION CONTACT: Monique Toussaint at the address listed in the ADDRESSES section of this notice. If you use a telecommunications device for the deaf (TDD), call the Federal Relay Service (FRS), toll-free, at 1-800-877-8339.

Individuals with disabilities can obtain this document in an accessible format (e.g., braille, large print, audiotape, or computer diskette) on request to the contact person listed in this section.

SUPPLEMENTARY INFORMATION: Invitation to Comment:

We invite you to submit comments regarding this notice of proposed waiver and extension of project period. During and after the comment period, you may inspect all public comments about this notice of proposed waiver and extension of project period in room 4W335, 400 Maryland Avenue, SW., Washington, DC, between the hours of 8:30 a.m. and 4:00 p.m., Washington, DC time, Monday through Friday of each week, except Federal holidays.

Assistance to Individuals With Disabilities in Reviewing the Rulemaking Record:

On request, we will provide an appropriate accommodation or auxiliary aid to an individual with a disability who needs assistance to review the comments or other documents in the public rulemaking record for this proposed waiver and extension of project period. If you want to schedule an appointment for this type of accommodation or auxiliary aid, please contact the person listed under FOR FURTHER INFORMATION CONTACT.

Background:

Under the PIRC program, the Department supports grants to help implement successful and effective parental involvement policies and activities that lead to improvements in student academic achievement and help partnerships among parents, teachers, principals, administrators, and other school personnel meet the educational needs of children. Section 5563(b) of the Elementary and Secondary Education Act of 1965, as amended (ESEA), describes project requirements for the recipients of PIRC grants, including requirements to serve both rural and urban areas; to use at least one-half of the funds awarded to a project to serve areas with high concentrations of low-income families; and to use at least 30 percent of the funds awarded to a project to establish, expand, or operate early childhood parent education programs.

During the first year of implementation, each PIRC received targeted technical assistance to conduct a five-year, high-quality evaluation in order to assess the impact of its services on families, communities, and schools. However, in order to begin the evaluation, each PIRC had to ensure that its services were fully implemented. For many projects, due to the nature of the services provided, this was not the case, causing significant delays in collecting baseline data during the first year of the project. Additionally, PIRCs conducting experimental design studies experienced logistical challenges associated with establishing treatment and control groups. An additional year of funding would give the PIRCs an opportunity not only to assess the impact of their services on families, communities, and schools, but to also collect additional data that could result in more valid and reliable findings on effective family engagement. This information is of particular interest to the Department, as some of these findings could inform policies for engaging families in transforming low-performing schools.

Therefore, the Secretary proposes this waiver and extension of project period in order to enable each of the current grantees to strengthen the quality of its evaluation. We believe the additional time and resources will provide information that can be used to inform best practices regarding supporting and engaging families and communities in their children's education.

The additional budget period will provide resources and time for each grantee to: (1) Conduct an additional round of grant activities in FY 2011; and, (2) collect additional information to evaluate its grant activities.

For these reasons, we believe it is preferable to review requests for continuation awards from the current grantees and extend currently funded projects rather than to hold a new competition in FY 2011. Authorizing current grantees to request additional funds would be a more appropriate and effective means of facilitating the work of the PIRC program and would result in a more cost-effective use of Federal funds.

Therefore, the Secretary proposes to waive the requirements in 34 CFR 75.250, which prohibit project periods exceeding five years, and the requirements in 34 CFR 75.261(c)(2), which limit the extension of a project period if the extension involves the obligation of additional Federal funds. With these waivers: (1) Current PIRC grantees would receive FY 2011 funds and continue to operate through FY 2012; and, (2) we would not announce a new competition or make new awards under the PIRC program in FY 2011.

The proposed waivers of 34 CFR 75.250 and 75.261(c)(2) would not affect the applicability of the requirements in 34 CFR 75.253 (continuation of a multi-year project after the first budget period) to any continuation awards sought by eligible current PIRC grantees as a result of the waivers.

In addition, these proposed waivers would not exempt current PIRC grantees from the account-closing provisions in 31 U.S.C. 1552(a), nor would they extend the availability of funds previously awarded to current PIRC grantees. Under 31 U.S.C. 1552(a), appropriated funds may be used for payment of valid obligations for only five years after the expiration of their period of availability for Federal obligation. After that time, the unexpended balance of those funds must be canceled and returned to the U.S. Treasury Department and is unavailable for restoration for any purpose. The waivers proposed in this notice would not change this requirement.

We will announce the final waivers, if any, in a notice in the Federal Register. We will determine the final waivers after considering responses to this notice and other information available to the Department.

Regulatory Flexibility Act Certification

The Secretary certifies that the proposed waiver and extension of project period would not have a significant economic impact on a substantial number of small entities.

The small entities that would be affected by these proposed waivers are:

(a) The FY 2006 and FY 2007 PIRC grantees currently receiving Federal funds; and

(b) The entities that are eligible for an award under the PIRC program (i.e., nonprofit organizations, or consortia of nonprofit organizations and local educational agencies (LEAs); and faith-based and community organizations if such organizations are nonprofit organizations, as defined in the notice of final priorities and eligibility requirements published in the Federal Register on March 27, 2006 (71 FR 15308)).

The Secretary certifies that the proposed waivers would not have a significant economic impact on these entities because the proposed waivers and the activities required to support the additional years of funding would not impose excessive regulatory burdens or require unnecessary Federal supervision. The proposed waivers would impose minimal requirements to ensure the proper expenditure of program funds, including requirements that are standard for continuation awards.

Paperwork Reduction Act of 1995

This notice of proposed waiver and extension of project period does not contain any information collection requirements.

Intergovernmental Review

This program is subject to Executive Order 12372 and the regulations in 34 CFR 79. One of the objectives of the Executive Order is to foster an intergovernmental partnership and a strengthened federalism. The Executive Order relies on processes developed by State and local governments for coordination and review of proposed Federal financial assistance. This document provides early notification of our specific plans and actions for this program.

Electronic Access to This Document

You can view this document, as well as all other Department of Education documents published in the Federal Register, in text or Adobe Portable Document Format (PDF) on the Internet at the following site: http://www.ed.gov/news/fedregister/index.html. To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number 84.310A, Parental Information and Resource Center Program).

Program Authority: 20 U.S.C. 7273 et seq.

Dated: January 10, 2011.
James H. Shelton III,
Assistant Deputy Secretary for Innovation and Improvement.

[FR Doc. 2011-805 Filed 1-13-11; 8:45 am]

BILLING CODE 4000-01-P